DEPARTMENT OF HEALTH AND HUMAN SERVICES

Agency for Healthcare Research and Quality

Agency Information Collection Activities: Proposed Collection; Comment Request

SUMMARY: This notice announces the intention of the Agency for Healthcare Research and Quality (AHRQ) to request that the Office of Management and Budget (OMB) approve proposed updates to the approved information collection project “Safety Program in Perinatal Care (SPPC)-II Demonstration Project.”

DATES: Comments on this notice must be received by November 23, 2020.

This proposed information collection was previously published in the Federal Register on July 16th, 2020 and allowed 60 days for public comment. AHRQ received no substantive comments from members of the public. The purpose of this notice is to allow an additional 30 days for public comment.

DATES: Comments on this notice must be received 30 days after date of publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Doris Lefkowitz, AHRQ Reports Clearance Officer, (301) 427-1477, or by email at doris.lefkowitz@AHRQ.hhs.gov.

SUPPLEMENTARY INFORMATION:

Proposed Project

“Safety Program in Perinatal Care (SPPC)-II Demonstration Project”

The SPPC-II Demonstration Project has the following goals:

(1) To implement the integrated AIM-SPPC II program in birthing hospitals in OK and TX in coordination with the Alliance for Innovation on Maternal Health program (AIM) and the respective state PQC (Perinatal Quality Collaborative);

(2) To assess the implementation of the integrated AIM-SPPC II program in these hospitals; and

(3) To ascertain the short- and medium-term impact of the integrated AIM-SPPC II program on hospital (i.e., perinatal unit) teamwork and communication, patient safety, and key maternal health outcomes.

The information collected for this Demonstration Project will be used to evaluate the implementation and impact of the SPPC-II program overlaid with AIM patient safety bundles in birthing hospitals in OK and TX. More specifically, the project will:

(a) Provide information on whether the proposed integration of AIM and SPPC-II programs can be implemented as intended, i.e., through the use of a two-tier approach for training all clinical staff in all hospitals, coordination by the AIM Team Lead of the rollout of training clinical staff using e-modules on teamwork and communication, facilitation by AIM Team Leads of in-person sessions to practice teamwork and communication tools and strategies; or, what changes are needed to better facilitate program implementation;

(b) provide information regarding the impact of the integrated AIM-SPPC II program on use of teamwork and communication tools and strategies, teamwork and communication metrics, patient safety culture changes, AIM bundle implementation, and key maternal health outcomes; and

(c) provide information regarding the sustainability of the integrated AIM-SPPC II program 18 months after implementation.

Due to pandemic-related impacts on the SPPC-II study population, we propose updating the SPPC-II data collection by (1) adding questions to the approved qualitative interview guide at 3-4 months to include pandemic-related questions to better understand the implementation context, (2) adding an additional qualitative interview collection at 15-16 months with a new interview guide to better understand the implementation context, and (3) increasing the total number of qualitative interview participants from 25 to 30 participants to account for the two qualitative interview collections at 3-4 months and 15-16 months. The total estimated annual burden hours for SPPC-II will increase from 54,654 hours in the previous clearance to 54,659 hours in this clearance request, an increase of 5 hours.

This study is being conducted by AHRQ through its contractor, Johns Hopkins University (JHU), and through JHU's subcontractor, AIM, pursuant to AHRQ's statutory authority to conduct and support research on healthcare and on systems for the delivery of such care, including activities with respect to the quality, effectiveness, efficiency, appropriateness and value of healthcare services and with respect to quality measurement and improvement. 42 U.S.C. 299a(a)(1) and (2).

Method of Collection

To achieve the goals of this project the following updates to the data collections will be implemented:

(a) Qualitative, semi-structured interviews with AIM Team Leads will be conducted by phone about 3-4 months and 15-16 months after the SPPC-II implementation start date to assess the perceived utility of the training and assistance needed with the rollout of training to all frontline clinical staff using the e-modules and facilitation sessions to consolidate the information, and to better understand the implementation context (including barriers, facilitators, and strategies). An interview guide developed based on the Consolidated Framework for Implementation Research framework will be used to conduct the interviews, together with a corresponding consent form.

Estimated Annual Respondent Burden

Exhibit 1 shows only the estimated annualized burden hours for the respondents' time to participate in updates to the information collection of the SPPC-II Demonstration Project.

One-hour qualitative interviews will be conducted with a total of 30 AIM Team Leads in the 2 states about 3-4 months and 15-16 months after the SPPC-II implementation start date.

The total annual burden hours are estimated to be 54,659 hours, an increase of 5 hours from the previous clearance request.

Exhibit 1—Estimated Annualized Burden Hours
Form name | Number of respondents | Number of responses per respondent | Hours per response | Total burden hours
Qualitative semi-structured interviews with AIM Team Leads at 3-4 months and 15-16 months | 30 | 1 | 1.00 | 30
Total | 30 | NA | NA | 30

Exhibit 2 shows only the hours and cost of updates to the collection. The cost burden of the updated collection is estimated to be $1,494.90 annually.

Exhibit 2—Estimated Annualized Cost Burden
Form name | Number of respondents | Total burden hours | Average hourly wage rate * | Total cost burden
Qualitative semi-structured interviews with AIM Team Leads at 3-4 months and 15-16 months | 30 | 30 | $49.83 | $1,494.90
Total | 30 | 30 |  | 1,494.90
* National Compensation Survey: Occupational wages in the United States May 2017 “U.S. Department of Labor, Bureau of Labor Statistics.”
ᵃ Hourly wage for nurse-midwives ($48.36; occupation code 29-1161).
ᵇ Weighted mean hourly wage for obstetrician-gynecologists ($113.10; occupation code 29-1064; 30%); nurse-midwives ($49.83; occupation code 29-1161; 30%); registered nurses ($35.36; occupation code 29-1161; 20%); and nurse practitioners ($51.86; occupation code 29-1171; 20%).

Request for Comments

In accordance with the Paperwork Reduction Act, 44 U.S.C. 3501-3520, comments on AHRQ's information collection are requested with regard to any of the following: (a) Whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: September 18, 2020.
Marquita Cullom-Stott,
Associate Director.

[FR Doc. 2020-21053 Filed 9-23-20; 8:45 am]

BILLING CODE 4160-90-P